COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products to the Procurement List that will be furnished by nonprofit agencies employing persons who are blind or have other severe disabilities.

DATES: Effective Date: 10/12/2015.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 6/6/2014 (79 FR 32716-32718), 6/5/2015 (80 FR 32096-32097) and 6/12/2015 (80 FR 33485-33489), the Committee for Purchase From People Who Are Blind or Severely Disabled published notices of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s)

8455-00-NIB-0003—Badge Reel, ID, Retractable, Bulldog Clip, Black

8455-00-NIB-0050—Flight Line Lanyard, Cord Style, Breakaway, with Holder, Black, 36″ x .25″

8455-00-NIB-0051—Holder, Badge, Vinyl, Re-Sealable, Clear, 3-¾″ x 2-⅝″

Mandatory Source of Supply: West Texas Lighthouse for the Blind, San Angelo, TX

Mandatory Purchase For: Total Government Requirement

Contracting Activity: General Services Administration, Fort Worth, TX

Distribution: A-List

NSN(s)—Product Name(s)

4240-00-NIB-0161—Lockout Tags, 25-pack

4240-00-NIB-0185—Kit, Lockout, Electrical/Valve with AC Sensor

4240-00-NIB-0202—Lockout/Tagout Station, 3 Padlocks

4240-00-NIB-0203—Lockout/Tagout Station, 8 Padlocks

4240-00-NIB-0207—AC Sensor, 50V-1000V

4240-00-NIB-0228—Medium Electrical Lockout Kit with Breaker Lockouts

4240-00-NIB-0229—Large Electrical Lockout Kit

4240-00-NIB-0230—Large Electrical/Valve Lockout Kit

4240-00-NIB-0231—Small Standard Lockout Kit

4240-00-NIB-0232—Extra Small Personal Electrical Lockout Kit

4240-00-NIB-0233—Small Electrical Lockout Kit

4240-00-NIB-0234—Small Electrical Lockout Kit with Plug Lockouts

4240-00-NIB-0236—Small Electrical Valve Lockout Kit

Mandatory Source of Supply: Association for the Blind and Visually Impaired—Goodwill Industries of Greater Rochester, Rochester, NY

Mandatory Purchase For: Total Government Requirement

Contracting Activity: Defense Logistics Agency Troop Support

Distribution: B-List

Barry S. Lineback,
Director, Business Operations.

[FR Doc. 2015-22898 Filed 9-10-15; 8:45 am]

BILLING CODE 6353-01-P